DEPARTMENT OF COMMERCE

National Oceanic and Atmospheric Administration

Pacific Fishery Management Council; Public Meeting

AGENCY: National Marine Fisheries Service (NMFS), National Oceanic and Atmospheric Administration (NOAA), Commerce.

ACTION: Notice of a public workshop.

SUMMARY: The Pacific Fishery Management Council (Council) and the NMFS Northwest and Southwest Fisheries Science Centers (NWFSC and SWFSC, respectively) will hold a public workshop to review and critique its groundfish stock assessment process in 2015. The Groundfish Stock Assessment Process Review Workshop is open to the public.

DATES: The Groundfish Stock Assessment Process Review Workshop will commence at 8:30 a.m. PT, Wednesday, December 9, 2015 and continue until 5:30 p.m. or as necessary to complete business for the day. The workshop will reconvene at 8:30 a.m. PT, Thursday, December 10, 2015 and continue until 5:30 p.m. or as necessary to complete business for the day

ADDRESSES: The Groundfish Stock Assessment Process Review Workshop will be held at Room 203, Fishery Sciences Building (FSH), University of Washington, 1122 NE Boat Street, Seattle, WA 98105.

FOR FURTHER INFORMATION CONTACT: Mr. John DeVore, Pacific Council; telephone: (503) 820-2413.

SUPPLEMENTARY INFORMATION: The purpose of the Groundfish Stock Assessment Process Review Workshop webinar is for participants in the Council's 2015 stock assessment process to consider the procedures used in 2015 to assess and update groundfish stock abundance and develop recommendations for improving the process for future assessments and future assessment reviews. No management actions will be decided in this workshop. Any recommendations developed at the workshop will be submitted for consideration by the Council at its March 2016 meeting in Sacramento, CA or its April 2016 meeting in Vancouver, WA (see the Council's Web site at www.pcouncil.org for future Council meeting agendas).

Although non-emergency issues not identified in the workshop agenda may come before the workshop participants for discussion, those issues may not be the subject of formal action during this workshop. Formal action at the workshop will be restricted to those issues specifically listed in this notice and any issues arising after publication of this notice that require emergency action under Section 305(c) of the Magnuson Stevens Fishery Conservation and Management Act, provided the public has been notified of the workshop participants' intent to take final action to address the emergency.

Special Accommodations

This workshop is physically accessible to people with disabilities. Requests for sign language interpretation or other auxiliary aids should be directed to Mr. Kris Kleinschmidt at (503) 820-2425 at least 5 days prior to the workshop date.

Dated: November 19, 2015.
Tracey L. Thompson,
Acting Deputy Director, Office of Sustainable Fisheries, National Marine Fisheries Service.

[FR Doc. 2015-29891 Filed 11-23-15; 8:45 am]

BILLING CODE 3510-22-P